DEPARTMENT OF THE INTERIOR

Fish and Wildlife Service

Proposed Information Collection; Electronic Reporting of Bird Electrocutions and Collisions with Power Lines

AGENCY: Fish and Wildlife Service, Interior.

ACTION: Notice; request for comments.

SUMMARY: We (Fish and Wildlife Service) will ask the Office of Management and Budget (OMB) to approve the information collection (IC) described below. As required by the Paperwork Reduction Act of 1995 and as part of our continuing efforts to reduce paperwork and respondent burden, we invite the general public and other Federal agencies to take this opportunity to comment on this IC.

DATES: You must submit comments on or before May 21, 2007.

ADDRESSES: Send your comments on the IC to Hope Grey, Information Collection Clearance Officer, Fish and Wildlife Service, MS 222-ARLSQ, 4401 North Fairfax Drive, Arlington, VA 22203 (mail); hope_grey@fws.gov (e-mail); or (703) 358-2269 (fax).

FOR FURTHER INFORMATION CONTACT: To request additional information about this IC, contact Hope Grey by mail, fax, or e-mail (see ADDRESSES) or by telephone at (703) 358-2482.

SUPPLEMENTARY INFORMATION: I. Abstract

The Migratory Bird Treaty Act (16 U.S.C. 703 et seq.) (MBTA), the Bald and Golden Eagle Protection Act (16 U.S.C. 668), and the Endangered Species Act (16 U.S.C. 1531 et seq.) make it unlawful to take without a permit federally listed migratory birds, including bald and golden eagles, endangered or threatened species, or any of the migratory birds listed under the MBTA. These laws define take to include pursue, hunt, shoot, wound, kill, trap, capture, or collect, or attempt any of these acts. The MBTA makes it a strict liability offense to take any of the federally listed migratory bird species contained in 50 CFR 10.13. The MBTA does not authorize issuance of permits for unintentional take of migratory birds; e.g., for birds killed on power lines, poles, and equipment operated by the electric utility industry.

The electric utility industry has documented instances of birds being killed by electrocutions and collisions with power equipment since the 19th Century. A bird is electrocuted when it contacts two energized phases (wires) at the same time, or when it simultaneously contacts grounded pole equipment and an energized phase. Large birds with long wingspans are most at risk, particularly species such as eagles and hawks that use power poles and towers for hunting, resting, feeding, nesting, and territorial defense. In areas where eagles occur, bald and golden eagles are electrocuted at a much higher rate than other birds. Since 2000, bald eagle electrocutions in Alaska make up 58 percent of the documented bird electrocutions.

We are asking electric utility companies to input information into the electronic bird incident reporting system. The information that we plan to collect includes:

(1) Details on the fatality/injury of the bird.

(2) Location where the bird was found.

(3) Configuration of the electrical equipment.

(4) Environmental conditions.

(5) Existing protection/retrofit measures.

(6) Photographs.

We will use this information as a management tool to facilitate a cooperative approach between the Service and the electric utility industry to address the wide-scale problem of bird electrocutions and collisions with power equipment. The information will help us to understand how and why a bird is electrocuted or involved in a collision with power equipment, and will assist in the development and use of effective and economically feasible electrical configurations and protective equipment to prevent future bird electrocutions and collisions.

The information will be available only to designated Service representatives and to the submitting electric utility for its internal use, unless the electric utility decides to share certain information in the query results section of the system.

II. Data

OMB Control Number: None.

Title: Electronic Reporting of Bird Electrocutions and Collisions with Power Lines.

Service Form Number(s): None.

Type of Request: New collection.

Affected Public: Electric utility companies.

Respondent's Obligation: Voluntary.

Frequency of Collection: On occasion.

Estimated Annual Number of Respondents: 120.

Estimated Total Annual Responses: 1,440.

Estimated Time Per Response: 15 minutes.

Estimated Total Annual Burden Hours: 360.

III. Request for Comments

We invite comments concerning this IC on:

(1) whether or not the collection of information is necessary, including whether or not the information will have practical utility;

(2) the accuracy of our estimate of the burden for this collection of information;

(3) ways to enhance the quality, utility, and clarity of the information to be collected; and

(4) ways to minimize the burden of the collection of information on respondents.

Comments submitted in response to this notice are a matter of public record. We will include and/or summarize each comment in our request to OMB to approve this IC.

Dated: March 5, 2007
Hope Grey,
Information Collection Clearance Officer, Fish and Wildlife Service.

FR Doc. E7-5076 Filed 3-20-07; 8:45 am

Billing Code 4310-55-S